DEPARTMENT OF ENERGY

Federal Energy Regulatory Commission

Combined Notice of Filings

March 19, 2009.

Take notice that the Commission has received the following Natural Gas Pipeline Rate and Refund Report filings:

Docket Numbers: RP96-320-102.

Applicants: Gulf South Pipeline Company, LP.

Description: Gulf South Pipeline Company, LP submits negotiated rate letter agreement executed by Gulf South and City of Vicksburg.

Filed Date: 03/12/2009.

Accession Number: 20090313-0134.

Comment Date: 5 p.m. Eastern Time on Tuesday, March 24, 2009.

Docket Numbers: RP09-340-002.

Applicants: Columbia Gas Transmission, LLC.

Description: Columbia Gas Transmission, LLC submits First Revised Sheet 3 et al. to its FERC Gas Tariff, Third Revised Volume 1, to be effective 4/13/09.

Filed Date: 03/13/2009.

Accession Number: 20090316-0226.

Comment Date: 5 p.m. Eastern Time on Wednesday, March 25, 2009.

Docket Numbers: RP09-373-001.

Applicants: Freebird Gas Storage, LLC.

Description: Freebird Gas Storage, LLC submits Substitute First Revised Sheet 119 et al. to FERC Gas Tariff, First Revised Volume 1, to be effective 3/20/09.

Filed Date: 03/10/2009.

Accession Number: 20090311-0054.

Comment Date: 5 p.m. Eastern Time on Monday, March 23, 2009.

Docket Numbers: RP09-373-002.

Applicants: Freebird Gas Storage, LLC.

Description: Freebird Gas Storage, LLC submits its FERC Gas Tariff, First Revised Volume 1 an Original Sheet 120A, to be effective 3/20/09.

Filed Date: 03/13/2009.

Accession Number: 20090316-0225.

Comment Date: 5 p.m. Eastern Time on Wednesday, March 25, 2009.

Docket Numbers: RP09-452-000.

Applicants: National Fuel Gas Supply Corporation.

Description: National Fuel Gas Supply Corporation submits a Petition of NFGSC for Waiver of Tariff Provision and Request for Shortened Notice Period.

Filed Date: 03/16/2009.

Accession Number: 20090316-0235.

Comment Date: 5 p.m. Eastern Time on Monday, March 23, 2009.

Docket Numbers: RP09-453-000.

Applicants: Columbia Gas Transmission Corporation.

Description: Columbia Gas Transmission, LLC submits Second Revised Sheet 1587 et al. to its FERC Gas Tariff, Original Volume No 2.

Filed Date: 03/16/2009.

Accession Number: 20090317-0257.

Comment Date: 5 p.m. Eastern Time on Monday, March 30, 2009.

Docket Numbers: RP09-454-000.

Applicants: KO Transmission Company.

Description: KO Transmission Company submits updated Second Revised Sheet 32 et al. to FERC Gas Tariff, Original Volume 1.

Filed Date: 03/16/2009.

Accession Number: 20090317-0258.

Comment Date: 5 p.m. Eastern Time on Monday, March 30, 2009.

Docket Numbers: RP09-455-000.

Applicants: Northern Natural Gas Company.

Description: Northern Natural Gas Company submits Sixth Revised Sheet No 257 et al. to FERC Gas Tariff, Fifth Revised Volume No 1.

Filed Date: 03/17/2009.

Accession Number: 20090318-0137.

Comment Date: 5 p.m. Eastern Time on Monday, March 30, 2009.

Docket Numbers: RP09-456-000.

Applicants: Steckman Ridge, LP.

Description: Steckman Ridge, LP submits executed service agreement containing deviations from the form of service agreement under Rate Schedule FSS.

Filed Date: 03/17/2009.

Accession Number: 20090318-0138.

Comment Date: 5 p.m. Eastern Time on Monday, March 30, 2009.

Docket Numbers: RP09-457-000.

Applicants: Kern River Gas Transmission Company.

Description: Kern River Gas Transmission Company submits Contract 1617 a Rate Schedule KRF-1 transportation service agreement for backhaul service with Nevada Power Company, to be effective 6/1/09.

Filed Date: 03/17/2009.

Accession Number: 20090318-0147.

Comment Date: 5 p.m. Eastern Time on Monday, March 30, 2009.

Docket Numbers: RP09-458-000.

Applicants: El Paso Natural Gas Company.

Description: Request for Waiver of El Paso Natural Gas Company.

Filed Date: 03/17/2009.

Accession Number: 20090317-5116.

Comment Date: 5 p.m. Eastern Time on Monday, March 30, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-6708 Filed 3-25-09; 8:45 am]

BILLING CODE 6717-01-P